DEPARTMENT OF TRANSPORTATION

Federal Aviation Administration

Notice of Request To Release Airport Property

AGENCY: Federal Aviation Administration (FAA), DOT.

ACTION: Notice of intent to rule on a request to release airport property at the Paulding Northwest Atlanta Airport, Dallas, Georgia.

SUMMARY: The FAA proposes to rule and invites public comment on the release of land at the Paulding Northwest Atlanta Airport, Dallas, Georgia.

DATES: Comments must be received on or before February 28, 2020.

ADDRESSES: Comments on this application may be mailed or delivered to the FAA at the following address: Rob Rau, Planning Lead, Federal Aviation Administration, Atlanta Airports District Office, 1701 Columbia Avenue, Suite 220, College Park, GA 30337.

In addition, one copy of any comments submitted to the FAA must be mailed or delivered to: Terry Tibbits, Chief Executive Officer (CEO), 730 Airport Parkway, Suite 100, Dallas, GA 30157.

FOR FURTHER INFORMATION CONTACT: Rob Rau, Planning Lead, Federal Aviation Administration, Atlanta Airports District Office, 1701 Columbia Avenue, Suite 220, College Park, GA 30337, (404) 305-6748, robert.rau@faa.gov.

The request to release property may be reviewed, by appointment, in person at this same location.

SUPPLEMENTARY INFORMATION: The FAA invites public comment on the request to release approximately 2.964 acres of airport property at Paulding Northwest Atlanta Airport (PUJ) under the provisions of 49 U.S.C. 47107(h)(2). On September 6, 2019, the CEO of the Paulding County Airport Authority requested from the FAA that approximately 2.964 acres of property be released for sale to the Chattahoochee Technical College for use as a new public Airframe and Power Plant (A&P) school consistent with the zoning ordinances of Paulding County. The FAA has determined that the proposed property release at the Paulding Northwest Atlanta Airport, as submitted by the Paulding County Airport Authority, meets the procedural requirements of the FAA and release of the property does not and will not impact future aviation needs at the airport. The FAA may approve the request, in whole or in part, no sooner than thirty days after the publication of this notice.

The following is a brief overview of the request:

Paulding Northwest Atlanta Airport is proposing the release of airport property totaling 2.964 acres, more or less. This land is to be used for an Airframe and Power Plant training school. The release of land is necessary to comply with Federal Aviation Administration Grant Assurances that do not allow federally acquired airport property to be used for non-aviation purposes. The sale of the subject property will result in the land at Paulding Northwest Atlanta Airport being changed from aeronautical to non-aeronautical use and release the land from the conditions of the Airport Improvement Program Grant Agreement Grant Assurances. In accordance with 49 U.S.C. 47107(c)(2)(B)(i) and (iii), the airport will receive fair market value for the property, which will be subsequently reinvested in another eligible airport improvement project for general aviation facilities at the Paulding Northwest Atlanta Airport.

Any person may inspect, by appointment, the request in person at the FAA office listed above under FOR FURTHER INFORMATION CONTACT. In addition, any person may, upon appointment and request, inspect the application, notice and other documents determined by the FAA to be related to the application in person at Paulding Northwest Atlanta Airport.

Issued in Atlanta, Georgia on January 23, 2020.
Larry F. Clark,
Manager.

[FR Doc. 2020-01574 Filed 1-28-20; 8:45 am]

BILLING CODE 4910-13-P